DEPARTMENT OF LABOR

Employment and Training Administration

[TA-W-70,305]

Shorewood Packaging; a Business Unit of International Paper; Springfield, OR; Notice of Affirmative Determination Regarding Application for Reconsideration

By application dated January 14, 2010, the petitioner requested administrative reconsideration of the negative determination regarding workers' eligibility to apply for Trade Adjustment Assistance (TAA) applicable to workers and former workers of the subject firm. The determination was issued on December 11, 2009. The Notice of Determination was published in the Federal Register on January 25, 2010 (75 FR 3932).

The initial investigation resulted in a negative determination based on the finding that imports of paperboard packaging and like or directly competitive products did not contribute importantly to workers separations at the subject firm and no shift in production occurred during the relevant period.

In the request for reconsideration, the petitioner provided additional information and alleged that Shorewood Packaging shifted production from the subject facility abroad.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 26th day of January 2010.
Del Min Amy Chen,
Certifying Officer, Division of Trade Adjustment Assistance.

[FR Doc. 2010-3011 Filed 2-12-10; 8:45 am]

BILLING CODE 4510-FN-P